DEPARTMENT OF LABOR

Comment Request for Information Collection for Labor Surplus Areas Extension Without Changes

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data for state petitions to add areas to the Labor Surplus Areas List. The expiration date is March 30, 2011.

A copy of the proposed information collection request (ICR) can be obtained by contacting the office listed below in the addresses section of this notice.

DATES: Written comments must be submitted to the office listed in the addresses section below on or before February 8, 2011.

ADDRESSES: Submit written comments to Samuel Wright, Room S-4231 Employment and Training Administration, 200 Constitution Avenue NW., Washington, DC 20210. Telephone number: 202-693-2870 (this is not a toll-free number). E-mail: wright.samuel.e@dol.gov.

SUPPLEMENTARY INFORMATION:

I. Background

Under Executive Orders 12073 and 10582, the Secretary of Labor is required to classify labor surplus areas (LSAs) for the use of Federal agencies in directing procurement activities and in locating new plants or facilities in areas of high unemployment. The LSAs list is issued annually, effective October 1 of each year, and is based upon the average unemployment rate during the previous two calendar years for each area in comparison with the national average rate for the same period.

II. Review Focus

The Department of Labor is particularly interested in comments which: Minimize the burden of the collection of information on those who are to respond, including through the use of appropriate automated, electronic, mechanical, or other technological collection techniques or other forms of information technology, e.g., permitting electronic submissions of responses.

III. Current Actions

Type of Review: Extension without changes.

Title: Labor Surplus Areas.

OMB Number: 1205-0207.

Affected Public: Only the states requesting an area to be added to the Labor Surplus Areas list under the exceptional circumstances provision.

Form(s): None.

Total Annual Respondents: No more than three states have submitted exceptional circumstance petitions in any year.

Annual Frequency: No more than three requests per year.

Total Annual Responses: In the most recent year, three states have requested areas to be added to the Labor Surplus Areas list. Prior to that year only one or two states have made requests.

Average Time per Response: Three hours.

Estimated Total Annual Burden Hours: 9 hours.

Total Annual Burden Cost for Respondents: $356 (9 hours @ $39.59 an hour).

Comments submitted in response to this request will be summarized and/or included in the request for Office of Management and Budget approval of the information collection request; they will also become a matter of public record.

Signed: At Washington, DC, this 15th day of November 2010.
Jane Oates,
Assistant Secretary, Employment and Training Administration.

[FR Doc. 2010-31065 Filed 12-9-10; 8:45 am]

BILLING CODE 4510-FN-P